DEPARTMENT OF DEFENSE

Office of the Secretary

Comprehensive Review of the Military Justice System; Revision

AGENCY: Department of Defense.

ACTION: Notice; revision.

SUMMARY: On May 19, 2014 (79 FR 28688-28689), the Department of Defense published a notice titled “Comprehensive Review of the Military Justice System.” Subsequent to the publication of that notice, the Department extended the deadline for the Military Justice Review Group (MJRG) reports recommending changes to the Uniform Code of Military Justice (UCMJ) and the Manual for Courts-Martial (MCM). This notice is being published with revisions to the notice of May 19, 2014. The deadline for the MJRG report recommending changes to the UCMJ has been extended to March 25, 2015, and the deadline for the report recommending changes to the MCM has been extended to September 21, 2015.

ADDRESSES: You may forward submissions by either of the following methods:

• E-Mail: OSD.UCMJ@mail.mil.

•Mail: Military Justice Review, Room 3B747, 1600 Defense Pentagon, Washington, DC 20301-1600.

Web site: http://www.dod.mil/dodgc/mjrg.html.

FOR FURTHER INFORMATION CONTACT: Mr. William Sprance, DoD Office of the General Counsel, 1600 Defense Pentagon, Washington DC 20301-1600; (703) 571-9457.

SUPPLEMENTARY INFORMATION: Submissions: The General Counsel invites members of the public to suggest areas for review by the MJRG concerning both substantive military law and military justice procedures, and to submit specific proposals to amend the UCMJ and the MCM. Please provide supporting rationale for any proposals. Submissions are requested as soon as possible to facilitate consideration within the timeframe established by the revised deadlines.

Comments submitted via email should be in one of the following formats: Adobe Acrobat or Microsoft Word. Materials received will not be returned, and any comments or submission received may become available to the public.

Dated: August 27, 2014.
Aaron Siegel,
Alternate OSD Federal Register Liaison Officer, Department of Defense.

[FR Doc. 2014-20844 Filed 9-2-14; 8:45 am]

BILLING CODE 5001-06-P